DEPARTMENT OF HEALTH AND HUMAN SERVICES

Administration for Children and Families

Submission for OMB Review; Administration for Native Americans (ANA) Ongoing Progress Report (OPR) and Objective Work Plan (OWP)

AGENCY: Administration for Native Americans, Administration for Children and Families, HHS.

ACTION: Request for public comment.

SUMMARY: The Administration for Children and Families' (ACF) Administration for Native Americans (ANA) is requesting a revision to the information collection: Ongoing Progress Report (OPR) and the Objective Work Plan (OWP) (OMB #0970-0452). Changes are proposed to reduce the burden on the public by combining ANA's Annual Data Report (OMB #0970-0475) with the OPR.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: Content changes are being made to the currently approved OPR. ANA will continue to use the currently approved OPR with minimal changes to the instructions for the remainder of fiscal year (FY) 2020 and will use the modified OPR beginning FY 2021. The modified OPR combines ANA's Annual Data Report (OMB #0970-0475) with the OPR.

The information in the OPR is collected on a semi-annual basis to monitor the performance of grantees and better gauge grantee progress. The semi-annual data collection replaces the previous quarterly filing requirement of the OPR.

The OPR information collection is conducted in accordance with Sec. 811 [42 U.S.C. 2992] of the Native American Programs Act and will allow ANA to report quantifiable results across all program areas. It also provides grantees with parameters for reporting their progress and helps ANA better monitor and determine the effectiveness of their projects.

There are no changes proposed to the OWP. The OWP information collection is conducted in accordance with 42 U.S.C. of the Native American Programs Act of 1972, as amended. This collection is necessary to evaluate applications for financial assistance and determine the relative merits of the projects for which such assistance is requested, as set forth in Sec. 806 [42 U.S.C. 2991d-1](a)(1).

Respondents: Federally and state-recognized tribes, Native Pacific Islanders, Tribal Colleges and Universities, native non-profits, and consortia.

Annual Burden Estimates
Instrument | Total number of respondents | Total number of responses per respondent | Average burden hours per response | Total burden hours | Annual burden hours
Objective Work Plan | 300 | 1 | 3 | 900 | 300
Ongoing Progress Report FY 2020 | 200 | 2 | 1 | 400 | 133
Ongoing Progress Report FY 2021—Exp. Date | 200 | 4 | 2 | 1600 | 533
* Burden is annualized over the three year approval period.

Estimated Total Annual Burden Hours: 966.

Authority: Sec. 806 [42 U.S.C. 2991d-1](a)(1) and Sec. 811 [42 U.S.C. 2992].

John M. Sweet Jr.,
ACF/OPRE Certifying Officer.

[FR Doc. 2020-18219 Filed 8-19-20; 8:45 am]

BILLING CODE 4184-34-P